ENVIRONMENTAL PROTECTION AGENCY

[EPA-HQ-OPP-2017-0628; FRL-9981-33-OEI]

Information Collection Request Submitted to OMB for Review and Approval; Comment Request; Experimental Use Permits (EUPs) for Pesticides (Renewal)

AGENCY: Environmental Protection Agency (EPA).

ACTION: Notice.

SUMMARY: The Environmental Protection Agency (EPA) has submitted the following information collection request (ICR) to the Office of Management and Budget (OMB) for review and approval in accordance with the Paperwork Reduction Act (PRA): Experimental Use Permits (EUPs) for Pesticides (EPA ICR No. 0276.16 and OMB Control No. 2070-0040). This is a request to renew the approval of an existing ICR, which is currently approved through August 31, 2018. EPA did not receive any comments in response to the previously provided public review opportunity issued in the Federal Register of December 11, 2017. With this submission to OMB, EPA is providing an additional 30 days for public review and comment.

DATES: Comments must be received on or before September 13, 2018.

ADDRESSES: Submit your comments, referencing Docket ID Number Docket ID No. EPA-HQ-OPP-2017-0628, to both EPA and OMB as follows:

• To EPA online using http://www.regulations.gov (our preferred method) or by mail to: EPA Docket Center, Environmental Protection Agency, Mail Code 28221T, 1200 Pennsylvania Ave. NW, Washington, DC 20460, and

• To OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Connie Hernandez, Field and External Affairs Division, Office of Pesticide Programs (7560P), Office of Pesticide Programs, Environmental Protection Agency, 1200 Pennsylvania Ave. NW, Washington, DC 20460-0001; telephone number: (703) 305-5190; email address: hernandez.connie@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This ICR is currently scheduled to expire on August 31, 2018. Under OMB regulations, an agency may continue to conduct or sponsor the collection of information while this submission is pending at OMB. Under PRA, 44 U.S.C. 3501 et seq., an Agency may not conduct or sponsor, and a person is not required to respond to, a collection of information unless it displays a currently valid OMB control number. The OMB control numbers are displayed either by publication in the Federal Register or by other appropriate means, such as on the related collection instrument or form, if applicable. The display of OMB control numbers for certain EPA regulations is consolidated in 40 CFR part 9.

Abstract: The information collection covered by this ICR provides EPA with the data necessary to determine whether to issue an EUP under section 5 of the Federal Insecticide, Fungicide, and Rodenticide Act (FIFRA). FIFRA requires that before a pesticide product may be distributed or sold in the U.S., it must be registered by EPA. However, FIFRA section 5 authorizes EPA to issue an EUP to allow pesticide companies to temporarily ship pesticide products for experimental use for the purpose of gathering data necessary to support the application for registration of a pesticide product. The EUP application must be submitted in order to obtain a permit.

Form Numbers: EPA Form 8570-17: Application for an Experimental Use Permit to Ship and Use a Pesticide for Experimental Purposes Only.

Respondents/Affected Entities: Entities potentially affected by this ICR are engaged in pesticide, fertilizer, and other agricultural chemical manufacturing. The NAICS for respondents under the ICR include: 325320 (Pesticide and other Agricultural Chemical Manufacturing).

Respondent's Obligation To Respond: Mandatory (40 CFR 172).

Estimated Number of Respondents: 31 (total).

Frequency of Response: On occasion.

Total Estimated Burden: 567 hours (per year). Burden is defined at 5 CFR 1320.03(b).

Total Estimated Cost: $37,497 (per year), includes $0 annualized capital or operation & maintenance costs.

Changes in the Estimates: There is an increase of 11 hours in the total annual estimated respondent burden compared with that identified in the ICR currently approved by OMB. This increase reflects EPA's adjustment based on a slight increase in EUP submissions by program participants. This change is an adjustment.

Courtney Kerwin,
Director, Collection Strategies Division.

[FR Doc. 2018-17443 Filed 8-13-18; 8:45 am]

BILLING CODE 6560-50-P